GOVERNMENT PRINTING OFFICE

Depository Library Council to the Public Printer; Meeting

The Depository Library Council to the Public Printer (DLC) will meet on Monday, April 26, 2010, through Wednesday, April 28, 2010, in Buffalo, New York. The sessions will take place from 8 a.m. to 5:30 p.m. on Monday through Tuesday. On Wednesday the session will be 8 a.m. to 12 p.m. The meeting will be held at the Adam's Mark Hotel located at 120 Church Street, Buffalo, New York. The purpose of this meeting is to discuss the Federal Depository Library Program. All sessions are open to the public. The sleeping rooms available at the Adam's Mark, Buffalo will be at the Government rate of $92.00 (plus applicable state and local taxes, currently 13.75%) a night for a single or double. The Adam's Mark is in compliance with the requirements of Title III of the Americans with Disabilities Act and meets all Fire Safety Act regulations.

Robert C. Tapella,
Public Printer of the United States.

[FR Doc. 2010-8123 Filed 4-8-10; 8:45 am]

BILLING CODE 1520-01-P